DEPARTMENT OF ENERGY

Federal Energy Regulatory Commission

[Project No. 2000-010]

New York Power Authority; Notice of Scoping Document 2 and Request for Additional Study Requests and Soliciting Preliminary Comments, Recommendations, Terms and Conditions, and Prescriptions

August 11, 2000.

The New York Power Authority (NYPA) is the licensee for the St. Lawrence-FDR Power Project (Project) (FERC No. 2000-010), which is located on the St. Lawrence River, St. Lawrence County, New York. The license for the Project expires October 31, 2003.

NYPA, the Federal Energy Regulatory Commission (Commission), the New York State Department of Environmental Conservation, resource agencies, local governments, non-governmental organizations, and the public have been conducting a Cooperative Consultation Process (CCP) to identify resource issues to be addressed during the relicensing of the Project. On April 19, 2000, Scoping Document 2 (SD2) was filed with the Commission for the Project and distributed to those on the mailing list. SD2 is a work product of the CCP Team. A copy of SD2 is available for inspection and reproduction at the Commission's Public Reference Room, located at 888 First Street, NE, Room 2A, Washington, DC 20426, or by calling (202) 208-1371. A copy is also available for inspection and reproduction at the NYPA's address listed below.

The Project and Ontario Hydro's Robert H. Saunders Generating Station, which together form the International St. Lawrence Power Project, were developed as part of a comprehensive plan by the governments of the United States and Canada to develop and regulate the international waters of Lake Ontario and the St. Lawrence River. Flow releases at the Project and the Robert H. Saunders Generating Station are in accordance with the International Joint Commission's (IJC) Plan of Regulation for Lake Ontario and are under the direction of the IJC's International St. Lawrence River Board of Control.

The primary features of the 912-megawatt Project are the Robert Moses Power Dam, two water-control dams (portion of the 1,980-foot-long, 72-foot-high Iroquois Dam within the United States and 2,960-foot-long and 109-foot-high Long Sault Dam), the 721-foot-long, 108-foot-high Massena Intake and 10.9 miles of dikes.

With this Notice we are soliciting additional study requests, preliminary comments, recommendations, terms and conditions, and prescriptions for the Project. All comments should be sent to: Mr. John J. Suloway, New York Power Authority, 123 Main Street, White Plains, NY 10601 with one copy filed with the Commission at: David P. Boergers, Secretary, Federal Energy Regulatory Commission, 888 First Street, NE, Washington, DC 20426. All comments must include the Project name and number, and bear the heading “Preliminary Comments”, “Preliminary Recommendations”, “Preliminary Terms and Conditions”, “Preliminary Prescriptions”, or “Additional Study Requests”. Any party interested in commenting must do so by September 8, 2000.

With this Notice, we are initiating consultation with the State Historic Preservation Officer, as required by Section 106 of the National Historic Preservation Act, and the regulations of the Advisory Council on Historic Preservation, 36 CFR 800.3.

The Commission's contact for this Project is Dr. Jennifer Hill, E-mail address Jennifer.Hill@FERC.Fed.US or telephone (202) 219-2797.

David P. Boergers,
Secretary.

[FR Doc. 00-20913 Filed 8-16-00; 8:45 am]

BILLING CODE 6717-01-M